DEPARTMENT OF ENERGY

Federal Energy Regulatory Commission

[Project No. 8961-002]

BP Hydro Associates; Lowline Rapids, LLC; Notice of Transfer of Exemption

1. By letter filed April 24, 2015,¹ William B. Conway, Jr., Counsel for Enel Green Power North America, Inc. (EGPNA),² informed the Commission that the exemption from licensing for the Lower Low Line Project, FERC No. 8961, originally issued April 16, 1986,³ has been transferred to Lowline Rapids, LLC, an affiliate of Enel Green Power. The project is located on the Low Line Canal in Twin Falls County, Idaho. The transfer of an exemption does not require Commission approval.

¹ Seventeen other exempted projects which are to be transferred were included in the April 24, 2015 letter. These exemptions will be handled under separate proceedings.

² Enel Green Power North America, Inc. is a wholly owned subsidiary of Enel Green Power. Enel Green Power is a well-capitalized publicly traded company.

³ 35 FERC ¶ 62,104, Order Granting Exemption From Licensing (Conduit) (1986).

2. Lowline Rapids, LLC is now the exemptee of the Lower Low Line Project, FERC No. 8961. All correspondence should be forwarded to: Lowline Rapids, LLC, c/o Enel Green Power North America, Inc., Attn: General Counsel, 1 Tech Drive, Suite 220, Andover, MA 01810.

Dated: May 19, 2015.
Kimberly D. Bose,
Secretary.

[FR Doc. 2015-12610 Filed 5-22-15; 8:45 am]

BILLING CODE 6717-01-P